DEPARTMENT OF THE INTERIOR

Bureau of Land Management

[WO-320-1330-PB-24 1A]

OMB Control Number 1004-0103; Information Collection Submitted to the Office of Management and Budget Under the Paperwork Reduction Act

The Bureau of Land Management (BLM) has submitted the proposed collection of information listed below to the Office of Management and Budget (OMB) for approval under the provisions of the Paperwork Reduction Act (44 U.S.C. 3501 et seq.). On April 2, 2004, the BLM published a notice in the Federal Register (69 FR 17443) requesting comments on this proposed collection. The comment period ended on June 1, 2004. The BLM received one comment. You may obtain copies of the proposed collection of information and related forms and explanatory material by contacting the BLM Information Collection Clearance Officer at the telephone number listed below.

The OMB is required to respond to this request within 60 days but may respond after 30 days. For maximum consideration your comments and suggestions on the requirement should be made within 30 days directly to the Office of Management and Budget, Interior Department Desk Officer (1004-0103), at OMB-OIRA via facsimile to (202) 395-6566 or e-mail to OIRA_DOCKET@omb.eop.gov. Please provide a copy of your comments to the Bureau Information Collection Clearance Officer (WO-630), Bureau of Land Management, Eastern States Office, 7450 Boston Blvd., Springfield, Virginia 22153.

Nature of Comments: We specifically request your comments on the following:

1. Whether the collection of information is necessary for the proper functioning of the BLM, including whether the information will have practical utility.

2. The accuracy of the BLM's estimate of the burden of collecting the information, including the validity of the methodology and assumptions used;

3. The quality, utility and clarity of the information to be collected; and

4. How to minimize the burden of collecting the information on those who are to respond, including the use of appropriate automated, electronic, mechanical, or other forms of information technology.

Title: Mineral Materials Disposal (43 CFR 3600, 3601, and 3602).

OMB Control Number: 1004-0103.

Bureau Form Number: 3600-9.

Abstract: The Bureau of Land Management proposes to extend the currently approved collection of information for the disposal of mineral materials on public lands through sales (sand, gravel, and petrified wood). BLM uses the information the applicants provide to:

(1) Determine if the sale of the mineral materials is in the public interest;

(2) Mitigate any environmental impacts associated with the mineral development;

(3) Get fair market value for the materials sold; and

(4) Prevent the trespass removal of the resource.

Frequency: Annually (sometimes monthly for some contracts).

Description of Respondents: Operators desiring sand, gravel, stone, and other mineral materials from public lands under BLM jurisdiction.

Estimated Completion Time: Varies from 15 minutes to several days for large projects, with an average of 30 minutes.

Annual Responses: 5,400.

Application Fee per Response: 0.

Information Collection Cost Recovery Fee: $20.

Annual Burden Hours: 2,700.

Bureau Clearance Officer: Ian Senio, (202) 452-5033.

Dated: January 5, 2005.
Ian Senio,
Bureau of Land Management, Information Collection Clearance Officer.

[FR Doc. 05-2933 Filed 1-15-05; 8:45 am]

BILLING CODE 4310-84-M